DEPARTMENT OF ENERGY

Federal Energy Regulatory Commission

[Project Nos. 2601-007, 2602-005, 2603-012, and 2619-012]

Duke Power; Notice of Intent To Prepare an Environmental Assessment and Notice of Scoping Meetings and Site Visits and Soliciting Scoping Comments

January 29, 2004.

Take notice that the following hydroelectric applications have been filed with the Commission and are available for public inspection:

a. Type of Applications: 3 Subsequent Minor Licenses and 1 New Major License.

b. Project Nos.: 2601-007, 2602-005, 2603-012, and 2619-012.

c. Date filed: July 22, 2003.

d. Applicant: Duke Power.

e. Names of Projects: Bryson Hydroelectric Project No. 2601-007 (Minor); Dillsboro Hydroelectric Project No. 2602-005 (Minor); Franklin Hydroelectric Project No. 2603-012 (Minor); and Mission Hydroelectric Project No. 2619-012 (Major).

f. Location: On the Oconaluftee River, Swain County, NC; on the Tuckasegee River, Jackson County, NC; on the Little Tennessee River, Macon County, NC; and on the Hiwassee River, Clay County, NC, respectively. The projects do not occupy any Federal lands.

g. Filed Pursuant to: Federal Power Act, 16 U.S.C. 791(a)-825(r).

h. Applicant Contact: Mr. Jeffrey G. Lineberger; Manager, Hydro Licensing. Duke Power. 526 South Church Street, PO Box 1006, Charlotte, NC 28201-1006.

i. FERC Contact: Lee Emery, (202) 502-9379 or lee.emery@ferc.gov and Carolyn Holsopple, (202) 502-6407 or carolyn.holsopple@ferc.gov.

j. Deadline for filing scoping comments: March 12, 2004.

All documents (original and eight copies) should be filed with: Magalie R. Salas,Secretary, Federal Energy Regulatory Commission, 888 First Street, NE., Washington,DC 20426.

The Commission's rules of practice and procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. These applications are not ready for environmental analysis at this time.

l. The proposed Bryson Hydroelectric Project would operate in a run-of-river (ROR) mode, within 6 inches of full pond elevation. Project operation is dependent on available flow in the Oconaluftee River. The project consists of the following features: (1) A 341-foot-long, 36-foot-high concrete multiple arch dam, consisting of, from left to right facing downstream, (a) a concrete, non-overflow section, (b) two gravity spillway sections, each surmounted by a 16.5-foot-wide by 16-foot-high Taintor gate, and (c) an uncontrolled multiple-arch spillway with four bays; (2) a 1.5-mile-long, 38-acre impoundment at surface elevation 1828.41 feet (ft.) msl (mean sea level); (3) two intake bays, each consisting of an 8.5-foot-diameter steel intake pipe with a grated trashrack having a clear bar spacing of between 2.25 to 2.5 inches; (4) a powerhouse containing two turbine/generating units, having a total installed capacity of 980 kilowatts (kW); (5) a switchyard, with three single-phased transformers; and (6) appurtenant facilities. There is no bypassed stream reach.

Duke Power estimates that the average annual generation is 5,534,230 kilowatt hours (kWh). Duke Power uses the Bryson Project facilities to generate electricity for use by retail customers living in the Duke Power-Nantahala Area.

The proposed Dillsboro Hydroelectric Project would operate in a ROR mode, within 6 inches of full pond elevation. Project operation is dependent on flows in the Tuckasegee River, which are affected by Duke Power's East Fork and West Fork Tuckasegee River projects which release flows upstream from the Dillsboro Project. The Dillsboro Project consists of the following features: (1) A 310-foot-long, 12-foot-high concrete masonry dam, consisting of, from left to right facing downstream, (a) a concrete, non-overflow section, (b) a 14-foot-long uncontrolled spillway section, (c) a 20-foot-long spillway section with two 6-foot-wide spill gates, (d) a 197-foot-long uncontrolled spillway section; (e) an 80-foot-long intake section, and (f) a concrete, non-overflow section; (2) a 0.8-mile-long,15-acre impoundment at elevation 1972.00 ft. msl; (3) two intake bays, each consisting of a reinforced concrete flume and grated trashracks having a clear bar spacing varying from 2.0 to 3.38 inches; (4) a powerhouse containing two turbine/generating units, having a total installed capacity of 225 kW; (5) a switchyard, with three single-phased transformers; and (6) appurtenant facilities. There is no bypassed stream reach.

Duke estimates that the average annual generation is 912,330 kWh. Duke uses the Dillsboro Project facilities to generate electricity for use by retail customers living in the Duke Power-Nantahala Area. Duke has determined that the Dillsboro Project is uneconomical and a settlement recently filed with the Commission may influence whether the dam and powerhouse would be removed or not. However, Duke has not filed a license surrender application for the project or withdrawn its current license application.

The proposed Franklin Hydroelectric Project would operate in a ROR mode, within 6 inches of full pond elevation. Project operation is dependent on available flow in the Little Tennessee River. The Franklin Project consists of the following features: (1) A 462.5-foot-long, 35.5-foot-high concrete masonry dam, consisting of, from left to right facing downstream, (a) a 15-foot-long non-overflow section, (b) a 54-foot-long ungated Ogee spillway, (c) a 181.5-foot-long gated spillway section, having six gated, ogee spillway bays, (d) a 54-foot-long ungated Ogee spillway, (e) a 25-foot-long non-overflow section, and (f) a 70-foot-long non-overflow section; (2) a 4.6-mile-long, 174-acre impoundment at elevation 2000.22 ft. msl; (3) three intake bays, each consisting of a flume and grated trashracks having a clear bar spacing of 3 inches; (4) a powerhouse containing two turbine/generating units having a total installed capacity of 1,040 kW; (5) a switchyard, with a single three-phase transformer; and (6) appurtenant facilities. There is no bypasses stream reach.

Duke Power estimates that the average annual generation is 5,313,000 kWh. Duke Power uses the Franklin Project facilities to generate electricity for use by retail customers living in the Duke Power-Nantahala Area.

The proposed Mission Hydroelectric Project would operate in a ROR mode, within 6 inches of full pond elevation. Project operation is dependent on available flow in the Hiwassee River, which is regulated by TVA's Chatuge dam located upstream from the Mission Project. The Mission Project consists of the following features: (1) A 397-foot-long, 50-foot-high concrete gravity dam, consisting of, from left to right facing downstream, (a) three bulkhead sections, (b) seven ogee spillway sections, surmounted by 14-foot-high by 16-foot-wide gates, (c) four bulkhead sections, and (d) a powerhouse intake structure; (2) a 47-acre impoundment at elevation 1658.17 ft. msl; (3) three intake bays, each consisting of an 8-foot-diameter steel-cased penstock and a grated trashrack having a clear bar spacing of between 2.25 to 2.5 inches; (4) a powerhouse containing three turbine/generating units, having a total installed capacity of 1,800 kW; (5) a switchyard, with a single three-phase transformer; and (6) appurtenant facilities. There is no bypassed reach.

Duke Power estimates that the average annual generation is 8,134,370 kWh. Duke Power uses the Mission Project facilities to generate electricity for use by retail customers living in the Duke Power-Nantahala Area.

m. Copies of the applications are available for review at the Commission in the Public Reference Room or may be viewed on the Commission's website at http://www.ferc.gov using the “eLibrary” link. Enter the docket number excluding the last three digits in the docket number field to access the document. For assistance, contact FERC Online Support at FERCOnlineSupport@ferc.gov or toll-free at 1-866-208-3676, or for TTY, 1-202-502-8659. Copies are also available for inspection and reproduction at the address in item h above.

You may also register online at http://www.ferc.gov/esuscribenow.htm to be notified via e-mail of new filings and issuances related to these or other pending projects. For assistance, contact FERC Online Support.

n. Scoping Process: The Commission intends to prepare a single, combined Environmental Assessment (EA) for the proposed projects in accordance with the National Environmental Policy Act. The EA will consider both site-specific and cumulative environmental impacts and reasonable alternatives to the proposed action.

Scoping Meetings: FERC staff will conduct two afternoon scoping meetings and two evening scoping meetings. The evening scoping meetings are primarily for public input, while the afternoon scoping meetings will focus on resource agency, tribal, and non-governmental organization (NG) concerns. All interested individuals, organizations, Indian tribes, and agencies are invited to attend one or both of the meetings, and to assist the staff in identifying the scope of the environmental issues that should be analyzed in the EA. The times and locations of these meetings are as follows:

Agency Scoping Meetings:

Date: Tuesday, February 10, 2004.

Time: 2 p.m.-4 p.m.

Place: Macon County Courthouse.

Address: 5 West Main Street, Franklin, NC 28734.

Date: Wednesday, February 11, 2004.

Time: 11 a.m.-1 p.m.

Place: Moss Memorial Library.

Address: 26 Anderson Street, Hayesville, NC 28904.

Public Scoping Meetings:

Date: Tuesday, February 10, 2004.

Time: 7 p.m.-10 p.m.

Place: Jackson County Administration Building.

Address: 401 Grindstaff Cove Road, Sylva, NC 28779.

Date: Wednesday, February 11, 2004.

Time: 7 p.m.-10 p.m.

Place: United Community Bank.

Address: 95 Highway 64 West, Hayesville, NC 28904.Objectives:

At the scoping meetings, staff will: (1) Summarize the environmental issues tentatively identified for analysis in the EA; (2) solicit from the meeting participants all available information, especially empirical data, on the resources at issue; (3) encourage statements from experts and participants on issues that should be analyzed in the EA, including viewpoints in opposition to, or in support of, the staff's preliminary views; (4) determine the resource issues to be addressed in the EA; and (5) identify those issues that do not require a detailed analysis.

Procedures:

The meetings will be recorded by a stenographer and become part of the formal record of the Commission proceeding on the project.

Individuals, organizations, agencies, and Indian tribes with environmental expertise and concerns are encouraged to attend the meetings and to assist Commission staff in defining and clarifying the issues to be addressed in the EA.

Copies of the Scoping Document (SD1) outlining the subject areas to be addressed in the EA are being distributed to the parties on the Commission's mailing list. Copies of the SD1 will be available at the scoping meetings or may be viewed on the Web at http://www.ferc.gov using the “eLibrary” link (see item m above). These meetings are posted on the Commission's calendar located on the Internet at http://www.ferc.gov/EventCalendar/EventsList.aspx along with other related information.

Site Visits:

Duke Power and the Commission staff will conduct project site visits in two segments on February 10 and February 11, 2004. On the first day we will meet at 8 a.m. at the Bryson Project. On the second day we will meet at 9 a.m. at the Mission Project. Site visitors will be responsible for their own transportation. Anyone with questions regarding the site visits should contact Mr. John C. Wishon of Duke Power at (828) 369-4604. The times and locations of these site visits are as follows:

Re: Bryson, Dillsboro, and Franklin Projects.

Date: Tuesday, February 10, 2004.

Time: 8 a.m.-12 p.m.

Place: Bryson Project.

Address: 310 Dam Road, Whittier, NC 28789.

Re: Mission Project.

Date: Wednesday, February 11, 2004.

Time: 9 a.m.-10 a.m.

Place: Mission Project.

Address: 1765 Mission Dam Road, Murphy, NC 28906.

Magalie R. Salas,
Secretary.

[FR Doc. E4-192 Filed 2-4-04; 8:45 am]

BILLING CODE 6717-01-P